ENVIRONMENTAL PROTECTION AGENCY

[OPPT-2002-0036; FRL-7490-1]

Agency Information Collection Activities; Submission of New EPA ICR No. 2088.01 to OMB for Review and Approval; Comment Request

AGENCY: Environmental Protection Agency (EPA).

ACTION: Notice.

SUMMARY: In compliance with the Paperwork Reduction Act (44 U.S.C. 3501 et seq.), this document announces that the following new Information Collection Request (ICR) has been forwarded to the Office of Management and Budget (OMB) for review and approval: Reporting and Recordkeeping Requirements under EPA's Hospitals for a Healthy Environment (H2E) Program (EPA ICR No. 2088.01). The ICR, which is abstracted below, describes the nature of the information collection and its estimated burden and cost. On August 19, 2002 (67 FR 53789), EPA sought comments on this ICR pursuant to 5 CFR 1320.8(d). EPA has addressed the comments received.

DATES: Additional comments may be submitted on or before May 30, 2003.

ADDRESSES: Submit your comments, identified by docket ID number OPPT-2002-0036, to both (1) EPA online at http://www.epa.gov/edocket (our preferred method) or by mail to: EPA Docket Center, Environmental Protection Agency, Mailcode: 7407T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Barbara Cunningham, Acting Director, Environmental Assistance Division, Office of Pollution Prevention and Toxics, Environmental Protection Agency, Mailcode: 7408, 1200 Pennsylvania Ave., NW., Washington, DC 20460; telephone number: 202-554-1404; e-mail address: TSCA-Hotline@epa.gov.

SUPPLEMENTARY INFORMATION: EPA has submitted the following new ICR to OMB for review and approval according to the procedures prescribed in 5 CFR 1320.10.

EPA has established a public docket for this ICR under Docket ID No. OPPT-2002-0036, which is available for public viewing at the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Pollution Prevention and Toxics Docket is (202) 566-0280. An electronic version of the public docket is available through EDOCKET at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Reporting and Recordkeeping Requirements under EPA's Hospitals for a Healthy Environment (H2E) Program (EPA ICR No. 2088.01). This is a request for a new collection activity submitted pursuant to 5 CFR 1320.10.

Abstract: The Hospitals for a Healthy Environment (H2E) program is a voluntary partnership program jointly administered by EPA and the American Hospital Association (AHA) that helps hospitals enhance work place safety, reduce waste and waste disposal costs, and become better environmental stewards and neighbors. The program is based on a 1998 Memorandum of Understanding signed by AHA and EPA to provide health care professionals with the tools and information necessary to reduce mercury waste, reduce the overall volume of waste, and identify pollution prevention opportunities.

The H2E program has two elements, the Partners for Change Program and the Champions for Change Program. The Partners for Change Program recognizes health care facilities that pledge support to the H2E mission and develop goals for reducing waste and mercury in their own facilities. The Champions for Change Program recognizes organizations that encourage and aid health care facilities to participate as H2E Partners, provide on-going promotional or technical assistance information, or make changes that support the goals of the H2E Program in their own institutions. An organization's decision to participate in the H2E Program is completely voluntary. This information collection addresses reporting and recordkeeping activities that support the administration of the H2E program.

Participation begins with the completion of and submittal to EPA of either a Partner Registration and Pledge Form or a Champion for Change Application form that provides EPA with general organizational information. Once an organization joins the Partners for Change Program, EPA expects new Partners to spend time up-front in establishing a solid foundation for H2E initiatives by documenting their environmental baseline when they first join H2E and by setting their own facility performance goals, and allots six months for Partners to establish their goals. During the first year and in all subsequent years, a Partner will submit the Annual Facility Assessment Summary and Goals Form. This form is designed to help a facility establish its own environmental baseline, continue to track its own environmental progress, provide basic contact and facility information, waste and mercury assessment summaries, environmental policy information, and a description of its pollution prevention (P2)/waste reduction goals and activities. EPA expects organizations to implement their H2E programs and report on their progress by January 31 of each subsequent year after joining, unless less than nine months have passed since the initial submission. The Annual Facility Assessment Summary and Goals Form is the main way Partners for Change report their environmental progress to EPA.

Partners and Champions may also apply for various H2E awards by submitting an Awards Application Form, the burden for which is also addressed in this ICR.

An agency may not conduct or sponsor, and a person is not required to respond to, a collection of information unless it displays a currently valid OMB control number. The OMB control numbers for EPA's regulations in title 40 of the CFR, after appearing in the Federal Register, are listed in 40 CFR part 9 and included on the related collection instrument or form, if applicable.

Burden Statement: The annual public reporting and recordkeeping burden for this collection of information is estimated to range between 0.5 and 20 hours per response, depending upon the type of information the respondent provides. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Establishments or organizations engaged in furnishing medical, surgical or other health services to individuals.

Estimated Number of Respondents: 550.

Frequency of Response: Annually.

Estimated Total Annual Hour Burden: 10,110 hours.

Estimated Total Annual Cost: $343,765. There are no annualized capital or O&M costs.

Changes in the Estimates: None. This is a new information collection.

Dated: April 22, 2003.
Richard T. Westlund,
Acting Director, Collection Strategies Division.

[FR Doc. 03-10653 Filed 4-29-03; 8:45 am]

BILLING CODE 6560-50-P